DEPARTMENT OF COMMERCE

National Oceanic and Atmospheric Administration

RIN 0648-XH30

Characterization of the West Coast Deep-set Longline Fishery Operating Outside of the U.S. Exclusive Economic Zone

AGENCY: National Marine Fisheries Service, National Oceanic and Atmospheric Administration, Department of Commerce.

ACTION: Notice; request for comments.

SUMMARY: Pursuant to the National Environmental Policy Act (NEPA), the National Marine Fisheries Service (NMFS) announces its intent to issue an environmental assessment (EA) which analyzes the management options for the west-coast-based deep-set longline (DSLL) pelagic tuna fishery operating on the high seas. The preferred alternative is to allow for the continued operation and possible minor expansion of the west-coast-based DSLL pelagic tuna fishery operating on the high seas. Impacts to the human environment (e.g., effects of the proposed action on protected species, finfish, seabirds, and socioeconomics) were found to be insignificant for both alternatives being considered. In 2005 a single commercial vessel began participating in the DSLL fishery on the high seas; therefore, this EA will provide the needed analysis to manage the fishery based on the best available science to ensure that the fishery is consistent with all Federal statutes and management objectives.

DATES: Written, faxed or emailed comments must be received no later than 5 p.m. pacific standard time on October 29, 2008.

ADDRESSES: The public is encouraged to submit comments on the draft environmental assessment, identified by RIN: 0648-XH30 by any of the following methods:

• E-mail: 0648-XH30.SWR@noaa.gov. Include the RIN number in the subject line of the message.

• Mail: Submit written comments to National Marine Fisheries Service, Sustainable Fisheries Division, 501 W. Ocean Blvd., Suite 4200, Long Beach, CA 90802-4213.

• Fax: (562) 980-4047, Attention: Mark Helvey.

The Draft Environmental Assessment for the West Coast Deep-set Longline Fishery Operating Outside of the U.S. Exclusive Economic Zone is available for review from the NMFS Southwest Region website (http://swr.nmfs.noaa.gov/). Copies of the Fishery Management Plan for U.S. West Coast Fisheries for Highly Migratory Species and the accompanying Environmental Impact Statement are available on the Pacific Fishery Management Council's website (www.pcouncil.org).

FOR FURTHER INFORMATION CONTACT: Mark Helvey, Assistant Regional Administrator, Sustainable Fisheries Division, Southwest Region, NMFS, (562) 980-4040.

SUPPLEMENTARY INFORMATION:

Background

The HMS FMP prohibits all longline fishing within the Exclusive Economic Zone (EEZ) off Washington, Oregon, and California. In addition, shallow-set longline fishing for swordfish on the high seas north of the equator is prohibited except for vessels operating under a Hawaii longline limited entry permit. The HMS FMP and associated environmental impact statement neither prohibits nor explicitly analyzes DSLL fishing on the high seas because at the time the documents were developed by the Pacific Fishery Management Council and NMFS, shallow-set and DSLL fishing were not considered separate fisheries and the analysis in the HMS FMP was primarily focused on shallow-set longline fishing. At the time, most of the west-coast-based pelagic longline fishing on the high seas consisted of shallow-set longline fishing for swordfish. In addition, there was no distinct DSLL fishery for tuna and it was presumed that the DSLL fishery would not develop primarily due to economic and operational constraints. Thus only a limited analysis of historic DSLL fishing was provided in the HMS FMP and accompanying environmental impact statement.

However, in 2005 a single commercial vessel began making deep-sets with longline gear targeting tuna on an exploratory basis and has continued seasonally operating on the high seas. The vessel has operated with close to 100 percent observer coverage, provided by NMFS, adhering to fisheries management regulations under the Magnuson-Stevens Fishery Conservation and Management Act, 16 U.S.C. 1801 et seq., the HMS FMP, and the High Seas Fishing Compliance Act, 16 U.S. C. chapter 75. NMFS determined that the HMS FMP and accompanying environmental impact statement did not adequately address DSLL fishing, or the potential impacts of the High Seas Fishery Compliance Act permits; therefore, NMFS is now doing a more thorough analysis based on the best available science.

Potential expansion of the fishery is estimated to be minimal due to the high operational costs (e.g., fuel and labor costs) and vessel constraints associated with fishing on the high seas. Fishing on the high seas requires larger vessels than those used for coastal or near-shore fishing because the trips are longer, require greater ice and fish hold capacity, and the sea conditions can be more challenging. Due to these logistical challenges of fishing on the high seas from west coast ports coupled with the current experimental nature of the fishery, NMFS does not anticipate that additional vessels will participate in this fishery; however, up to five additional vessels could enter the fishery as soon as the next three years if regulations and/or poor catches in other west-coast-based fisheries force eligible vessels to seek alternate open-access fishing options available to them. This estimate originated from discussions with the U.S. west coast fishing industry and the Pacific Fishery Management Council's HMS Advisory Subpanel to determine who had the capacity and would be interested in entering the fishery over the next three years.

The proposed action area analyzed in this EA is the high seas off the West Coast of the United States. The HMS FMP defines the high seas as all waters beyond the EEZ of the United States and beyond any foreign nation's EEZ, to the extent that such EEZ is recognized by the United States. The fishery is expected to operate in a relatively small subset of the eastern Pacific Ocean; more specifically, in the area east of 140 W. longitude, north of the equator, south of 35 N. latitude, and outside the U.S. and Mexico EEZ's (beyond 200 nautical miles offshore). Most, if not all, future DSLL fishing is expected to occur in this small subset of the eastern Pacific Ocean; however, this analysis defines the action area as the high seas in order to be consistent with the description of the DSLL fishery in the HMS FMP, and to take into account the possibility of fishing occurring in any area on the high seas.

Alternatives

For this proposed action, there are only two alternatives are being analyzed due to the fact that NMFS has determined that the regulations that are currently in place are sufficient to meet the need to regulate the current and any reasonably foreseeable fishery. However, NMFS may consider additional regulations and do additional NEPA analysis in the future should the fishery develop beyond the scope of this analysis. Alternative 1 would close the current west-coast-based DSLL fishery operating on the high seas, which currently consists of one vessel. To implement this alternative the HMS FMP would need to be amended and the implementing regulations published. There could be some minor positive impacts on protected species and fish populations; however, many of these species are highly migratory with a Pacific-wide distribution. Thus, they would not necessarily benefit from the reduction of effort associated with closing the west-coast-based DSLL fishery because the effort may be shifted to other fisheries to continue meeting domestic demand for fish. Tuna formerly caught in the west-coast-based DSLL fishery are likely to be caught by other nations and imported back into the nation with the closed fishery. There may also be some negative impacts on the socio-economics of the participant, fishing communities and the fishing industry in general if this alternative was implemented.

Alternative 2, the preferred alternative, would allow the west-coast-based DSLL fishery to continue operating on the high seas and expand to a maximum of six vessels. At six vessels, there could be some minor negative impacts to protected resource and finfish populations and some positive socioeconomic impacts for the participants and the fishing industry in general if this alternative was implemented. However, as discussed previously, this may just result in a shift in effort from one fishery to another, if demand for tuna remains the same. All U.S. longline vessels operating on the high seas outside of the U.S. EEZ are currently subject to the same controls that applied to Hawaii-based longline fishing vessels holding longline permits in 2003. The limitations and specifications for the fishing area, gear configurations, sea turtle and seabird mitigation measures, skipper workshops, etc. are consistent with current Federal regulations applicable to longline vessels targeting tuna under the Western Pacific Fishery Management Council's Pelagics FMP (implemented at 50 CFR part 665) and the Pacific Fishery Management Council's HMS FMP (implemented at 50 CFR part 660).

Other Documents

As required in Section 7(a)(2) of the Endangered Species Act (16 U.S.C. 1531 et seq.), NMFS is engaged in formal consultations with NMFS's Protected Resource Division to determine if the proposed action is likely to jeopardize the continued existence and recovery of any endangered or threatened species or result in the destruction or adverse modification of critical habitat.

Request for Comments

NMFS requests public comment on the draft environmental assessment of the West Coast Deep-set Longline Fishery Operating Outside of the U.S. Exclusive Economic Zone.

Authority: 16 U.S.C. 1801 et seq.

Dated: September 23, 2008.
Emily H. Menashes,
Acting Director, Office of Sustainable Fisheries, National Marine Fisheries Service.

[FR Doc. E8-22818 Filed 9-26-08; 8:45 am]

BILLING CODE 3510-22-S